DEPARTMENT OF TRANSPORTATION

Federal Aviation Administration

14 CFR Part 39

[Docket No. FAA-2005-20221; Directorate Identifier 2004-NM-173-AD; Amendment 39-14329; AD 2005-20-32]

RIN 2120-AA64

Airworthiness Directives; Airbus Model A330-200 and -300 and A340-200 and -300 Series Airplanes

AGENCY: Federal Aviation Administration (FAA), Department of Transportation (DOT).

ACTION: Final rule.

SUMMARY: The FAA is adopting a new airworthiness directive (AD) for all Airbus Model A330-200 and -300 and A340-200 and -300 series airplanes. This AD requires inspecting to determine the part number and serial number of the left- and right-hand elevator assemblies, performing related investigative and corrective actions if necessary, and re-protecting the elevator assembly. This AD results from reports that areas on the top skin panel of the right-hand elevator have disbonded due to moisture penetration. We are issuing this AD to prevent disbonding of the elevator assembly, which could reduce the structural integrity of the elevator and result in reduced controllability of the airplane.

DATES: This AD becomes effective November 16, 2005.

The Director of the Federal Register approved the incorporation by reference of certain publications listed in the AD as of November 16, 2005.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A330, A340-200, and A340-300 series airplanes. That NPRM was published in the Federal Register on February 1, 2005 (70 FR 5073). That NPRM proposed to require inspecting to determine the part number and serial number of the left- and right-hand elevator assemblies, performing related investigative and corrective actions if necessary, and re-protecting the elevator assembly.

Comments

We provided the public the opportunity to participate in the development of this AD. We have considered the comments received.

Request To Allow Records Check as a Method of Compliance

One commenter believes that it is unnecessary to inspect its fleet to determine that none of the airplanes in its fleet are subject to the proposed AD. The commenter states that its airplanes were delivered new from Airbus in July 2003, after Airbus had changed its production processes to prevent moisture penetration of the elevator. The delivery records for these airplanes show the part number and serial number of the left- and right-hand elevator assemblies. The commenter notes that it has not replaced the elevator assemblies on any airplane in its fleet. Further, the Illustrated Parts Catalog shows that the elevator assemblies that would be affected by the proposed AD cannot legally be installed on the airplanes in its fleet. The commenter asserts that its airplanes are in compliance with the intent of the proposed AD, and that it will be able to ensure continuing compliance by inspecting all incoming spare elevator assemblies and any elevators on airplanes purchased from other operators to ensure that the elevator assemblies are not subject to the proposed AD. The commenter states that these measures will provide a level of safety equivalent to the level that would be provided by the proposed AD.

The airplane manufacturer also comments that airplane records should contain the part number and serial number of each elevator assembly, even in the event that the elevator assembly has been replaced. The airplane manufacturer states that a records check would be better than an inspection for determining the part number and serial number of the elevator assemblies, especially considering that very few airplanes with the subject part number/serial number combinations could be registered in the U.S.

We infer that the first commenter's request is the same as the second commenter's—remove the requirement to inspect the elevator assemblies to determine the part number and serial number, or allow a records check as a method of compliance with this AD.

We concur with the commenters' request to allow a records check as a method of compliance with this AD. We have revised paragraph (g) of this AD to state that a review of maintenance records is acceptable in lieu of an inspection, provided that the part number and serial number of the elevator assemblies can be conclusively determined from that review.

Request To Revise Compliance Times

One commenter, the airplane manufacturer, requests that we revise paragraph (g)(1) of the proposed AD to remove the reference to “the date of issuance of the original Airworthiness Certificate or the date of issuance of the original Export Certificate of Airworthiness.” (This term was used in lieu of the term “the first flight of the airplane,” which the Direction Générale de l'Aviation Civile (DGAC) uses to establish the compliance times specified in French airworthiness directive F-2004-118 R1, dated October 13, 2004.) The commenter states that it does not see any advantage in the FAA's terminology. The commenter states that the reference for the service life of the airplane is the first flight—the point at which flight hours and flight cycles begin to count. The commenter states that the first flight of an airplane cannot be “interpreted differently by different operators” (as the FAA states under “Differences Among the Proposed AD, the French Airworthiness Directive, and the Service Information” in the proposed AD). The commenter states that the date of the first flight is recorded in the airplane's logbook.

We agree with the commenter's request. We find that, for the airplane models affected by this AD, operators should be able to readily determine the date of the first flight of the airplane. We have revised paragraph (g)(1) of this AD accordingly.

The same commenter also takes issue with the grace period of 18 months after the effective date of the AD, which is specified in paragraph (g)(2) of the proposed AD. The commenter states that this date will be long after the January 31, 2006, compliance date specified in French airworthiness directive F-2004-118 R1.

We do not concur. We would use a calendar date to express a compliance time only when engineering analysis establishes a direct relationship between the date and either the compliance threshold or the grace period. In this case, this relationship does not exist, and we find that a grace period of 18 months after the effective date of this AD represents an appropriate interval of time for affected airplanes to continue to operate without compromising safety. Also, we note that the compliance time of January 31, 2006, specified in French airworthiness directive F-2004-118 R1 is approximately 18 months after the effective date of the original issue of French airworthiness directive F-2004-118, July 31, 2004. Thus, the 18-month grace period is consistent with the grace period allowed by the DGAC in French airworthiness directive F-2004-118 R1. We have not changed the AD in this regard.

Request To Refer to Service Bulletins for Repair Instructions

One commenter, the airplane manufacturer, notes that paragraph (f)(1) of the proposed AD would require repairs to be done in accordance with a method approved by the FAA, the Direction Générale de l'Aviation Civile (DGAC) (which is the airworthiness authority for France), or the DGAC's delegated agent, where the service bulletins specify to contact Airbus. The commenter states that any repair solution provided by Airbus would be DGAC approved through Airbus's privileges as a Delegation Option Authorization (DOA) organization. For this reason, the commenter states that the instructions specified in the service bulletins should be followed.

We infer that the commenter is asking that we remove paragraph (f)(1) from this AD. We do not agree. We cannot specify in an AD that operators may contact the manufacturer for repair instructions when the nature of that repair is unknown. Doing so would be delegating our rulemaking authority to the manufacturer. We acknowledge that Airbus is able to approve repairs, as allowed by Airbus's delegation authorization from the European Aviation Safety Agency (EASA). We find that requiring repair “according to a method approved by the Manager, International Branch, ANM-116, Transport Airplane Directorate, FAA; or the Direction Générale de l'Aviation Civile (or its delegated agent),” as specified in paragraph (f)(1) of this AD, meets the intent of the commenter's request (i.e., it allows repair in accordance with a method approved by Airbus), without compromising the terms of our rulemaking authority. We have not changed the AD in this regard.

Request To Require Reporting

One commenter, the airplane manufacturer, notes that paragraph (f)(2) of the proposed AD states that reporting information to the manufacturer is not required. The commenter requests that we revise the proposed AD to require inspection results be sent to Airbus. The commenter states that receiving the inspection results will allow it to gain as much information from the field as possible to allow continuous improvement.

We do not concur with the commenter's request. The Office of Management and Budget (OMB) must approve information collection requirements under the provisions of the Paperwork Reduction Act (PRA) of 1980 (44 U.S.C. 3501 et seq.). The PRA requires government agencies to consider the extent of the paperwork burden that will accompany any new rule. The PRA is intended to reduce these burdens by requiring agencies not only to analyze the information collection and reporting costs they are imposing on the private sector, but to use those analyses to minimize the cost. We require operators to submit information relevant to AD actions only when our analyses indicate that such information is needed to ensure safety or to document compliance. We cannot require operators to submit information to improve processes. We have not changed the AD in this regard.

Explanation of Change to Applicability

We have revised the applicability of this AD to identify model designations as published in the most recent type certificate data sheet for the affected models.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD affects about 20 airplanes of U.S. registry. The inspection to determine the part number and serial number of installed elevator assemblies takes about 1 work hour per airplane, at an average labor rate of $65 per work hour. Based on these figures, the estimated cost of this AD for U.S. operators is $1,300, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-32 Airbus: Amendment 39-14329. Docket No. FAA-2005-20221; Directorate Identifier 2004-NM-173-AD.

Effective Date

(a) This AD becomes effective November 16, 2005.

Affected ADs

(b) None.

Applicability

(c) This AD applies to all Airbus Model A330-201, -202, -203, -223, -243, -301, -321, -322, -323, -341, -342, and -343 airplanes; and Model A340-211, -212, -213, -311, -312, and -313 airplanes; certificated in any category.

Unsafe Condition

(d) This AD was prompted by reports that areas on the top skin panel of the right-hand elevator have disbonded due to moisture penetration. We are issuing this AD to prevent disbonding of the elevator assembly, which could reduce the structural integrity of the elevator and result in reduced controllability of the airplane.

Compliance

(e) You are responsible for having the actions required by this AD performed within the compliance times specified, unless the actions have already been done.

Service Bulletin References

(f) The term “service bulletin,” as used in this AD, means the Accomplishment Instructions of Airbus Service Bulletin A330-55-3032 (for Model A330-201, -202, -203, -223, -243, -301, -321, -322, -323, -341, -342, and -343 airplanes) or Airbus Service Bulletin A340-55-4029 (for Model A340-211, -212, -213, -311, -312, and -313 airplanes), both dated December 22, 2003, as applicable.

(1) Where the service bulletins recommend contacting Airbus for appropriate action: Before further flight, repair the condition according to a method approved by the Manager, International Branch, ANM-116, Transport Airplane Directorate, FAA; or the Direction Générale de l'Aviation Civile (or its delegated agent).

(2) Although the service bulletins specify submitting certain information to the manufacturer, this AD does not include that requirement.

Determining Part Number, Serial Number

(g) At the later of the times specified in paragraphs (g)(1) and (g)(2) of this AD: Perform an inspection to determine the part number and serial number of the left- and right-hand elevator assemblies. A review of airplane maintenance records is acceptable in lieu of this inspection if the part number and serial number of each elevator assembly can be conclusively determined from that review. If neither elevator assembly has a part number and serial number combination identified in Table 1 of this AD, no further action is required by this paragraph. If either elevator assembly has a part number and serial number combination identified in Table 1 of this AD, do paragraph (h) of this AD.

(1) Within 10 years after the date of the first flight of the airplane, or before the accumulation of 12,000 total flight cycles, whichever is first.

(2) Within 18 months after the effective date of this AD.

Table 1.—Affected Elevator Part Numbers and Serial Numbers
Part | Affected part numbers | Affected serial numbers
Left-hand elevator assembly | F55280000000, F55280000004 | CG1002 through CG1091 inclusive, CG1093, CG1094, CG2001.
Right-hand elevator assembly | F55280000001, F55280000005 | CG1002 through CG1094 inclusive, CG2001.

Inspections

(h) If the left- or right-hand elevator assembly has a part number and serial number combination identified in Table 1 of this AD: Before further flight after accomplishing paragraph (g) of this AD, do the actions in paragraphs (h)(1), (h)(2), and (h)(3) of this AD, as applicable.

(1) Perform an endoscopic inspection to detect damage (such as a scratch, disbonding, or a tear), and a tap test and a thermographic inspection to detect signs of moisture penetration, to the upper and lower elevator panels on both sides of the airplane, in accordance with the service bulletin.

(2) If any damage is found, before further flight, do all applicable corrective actions (including but not limited to repeating the thermographic inspection to determine the size of the damaged area, and performing a tap test around the areas where moisture is indicated), in accordance with the service bulletin.

(3) Re-protect the elevator assembly (including performing a general visual inspection to determine if the drainage holes are clean, a general visual inspection to determine the condition of the sealant covering the static discharges contour, and applicable corrective actions), in accordance with the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Parts Installation

(i) As of the effective date of this AD, no person may install, on any airplane, an elevator assembly having a part number and serial number combination identified in Table 1 of this AD unless the actions required by paragraph (h) of this AD are accomplished.

Alternative Methods of Compliance (AMOCs)

(j)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) French airworthiness directive F-2004-118 R1, dated October 13, 2004, also addresses the subject of this AD.

Material Incorporated by Reference

(l) You must use Airbus Service Bulletin A330-55-3032, excluding Appendix 01, dated December 22, 2003; or Airbus Service Bulletin A340-55-4029, excluding Appendix 01, dated December 22, 2003; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on September 29, 2005.
Ali Bahrami,
Manager, Transport Airplane Directorate, Aircraft Certification Service.

[FR Doc. 05-20064 Filed 10-11-05; 8:45 am]

BILLING CODE 4910-13-P